DEPARTMENT OF COMMERCE

National Oceanic and Atmospheric Administration

50 CFR Part 635

[Docket No. 110208116-2233-02]

RIN 0648-BA75

Atlantic Highly Migratory Species; Electronic Dealer Reporting Requirements; Correction

AGENCY: National Marine Fisheries Service (NMFS), National Oceanic and Atmospheric Administration (NOAA), Commerce.

ACTION: Final rule; correction.

SUMMARY: This action is a technical amendment to a rule not yet in effect. It contains a correction to the final regulations regarding electronic dealer reporting, which published August 8, 2012, with an effective date of January 1, 2013.

DATES: Effective January 1, 2013, and is applicable beginning January 1, 2013.

FOR FURTHER INFORMATION CONTACT: Delisse Ortiz or Karyl Brewster-Geisz at 301-427-8503, or Jackie Wilson at 240-338-3936.

SUPPLEMENTARY INFORMATION:

Background

On June 28, 2011 (76 FR 37750), NMFS published a proposed rule that would among other things, require electronic dealer reporting for all federal Atlantic HMS dealers. On August 8, 2012 (77 FR 47303), the final rule for electronic dealer reporting was published, with a delayed implementation of January 1, 2013. On June 22, 2012 (77 FR 37647), NMFS published a proposed rule that would implement the International Commission for the Conservation of Atlantic Tunas (ICCAT) Recommendation 11-08, which prohibits retaining, transshipping, or landing silky sharks caught in association with ICAAT fisheries. On October 4, 2012 (77 FR 60632), NMFS published a final rule that implemented these silky shark management measures, with an effective date of November 5, 2012.

Need for Correction

Both the silky shark rule and the electronic dealer reporting rule made changes to regulatory text at § 635.31(c)(6). This document corrects the final electronic dealer reporting rule by revising the first sentence of § 635.31(c)(6) to make it consistent with amendments made to that section in the shark rule. The shark rule became effective on November 5, 2012, after publication, but prior to the effective date, of the electronic dealer final rule. Without this technical amendment, when the electronic dealer rule becomes effective on January 1, 2013, it would inadvertently undo the dealer prohibition on purchasing (first receiving) silky sharks contained in the shark rule and codified in § 635.31(c)(6). All other information remains unchanged and will not be repeated in this correction.

Correction of Publication

In the final rule that published in the Federal Register Wednesday, August 8, 2012 (77 FR 47303), the following correction is made. On page 47317, in column 3, in § 635.31, paragraph (c)(6) is correctly revised to read as follows:

§ 635.31 Restrictions on sale and purchase.

* * * * *

(c) * * *

(6) A dealer issued a permit under this part may not first receive silky sharks, oceanic whitetip sharks or scalloped, smooth, or great hammerhead sharks from an owner or operator of a fishing vessel with pelagic longline gear on board, or from the owner of a fishing vessel issued both a HMS Charter/Headboat permit and a commercial shark permit when tuna, swordfish or billfish are on board the vessel, offloaded from the vessel, or being offloaded from the vessel.

* * * * *

Dated: December 3, 2012.
Alan D. Risenhoover,
Director, Office of Sustainable Fisheries, performing the functions and duties of the Deputy Assistant Administrator for Regulatory Programs, National Marine Fisheries Service.

[FR Doc. 2012-29519 Filed 12-6-12; 8:45 am]

BILLING CODE 3510-22-P